DEPARTMENT OF ENERGY

Federal Energy Regulatory Commission

Combined Notice of Filings #1

Take notice that the Commission received the following electric corporate filings:

Docket Numbers: EC23-72-000.

Applicants: Chevelon Butte RE LLC, Arizona Public Service Company.

Description: Joint Application for Authorization Under Section 203 of the Federal Power Act of Chevelon Butte RE LLC, et al.

Filed Date: 4/14/23.

Accession Number: 20230414-5271.

Comment Date: 5 p.m. ET 5/5/23.

Docket Numbers: EC23-73-000.

Applicants: 83WI 8me, LLC, Lily Solar LLC, Lily Solar Lessee, LLC, Elite Aggregator L.P.

Description: Joint Application for Authorization Under Section 203 of the Federal Power Act of 83WI 8me, LLC, et al.

Filed Date: 4/14/23.

Accession Number: 20230414-5282.

Comment Date: 5 p.m. ET 5/5/23.

Take notice that the Commission received the following exempt wholesale generator filings:

Docket Numbers: EG23-122-000.

Applicants: Sagebrush ESS II, LLC.

Description: Sagebrush ESS II, LLC submits Notice of Self-Certification of Exempt Wholesale Generator Status.

Filed Date: 4/14/23.

Accession Number: 20230414-5236.

Comment Date: 5 p.m. ET 5/5/23.

Docket Numbers: EG23-123-000.

Applicants: Caden Energix Endless Caverns, LLC.

Description: Caden Energix Endless Caverns, LLC submits Notice of Self-Certification of Exempt Wholesale Generator Status.

Filed Date: 4/17/23.

Accession Number: 20230417-5087.

Comment Date: 5 p.m. ET 5/8/23.

Docket Numbers: EG23-124-000.

Applicants: Caden Energix Axton LLC.

Description: Caden Energix Axton LLC submits Notice of Self-Certification of Exempt Wholesale Generator Status.

Filed Date: 4/17/23.

Accession Number: 20230417-5096.

Comment Date: 5 p.m. ET 5/8/23.

Docket Numbers: EG23-125-000.

Applicants: Roundhouse Interconnect, LLC.

Description: Roundhouse Interconnect, LLC submits Notice of Self-Certification of Exempt Wholesale Generator Status.

Filed Date: 4/17/23.

Accession Number: 20230417-5102.

Comment Date: 5 p.m. ET 5/8/23.

Take notice that the Commission received the following electric rate filings:

Docket Numbers: ER23-720-000.

Applicants: DTE Electric Company.

Description: Supplement to December 13, 2022, Request for Authorization to Engage in Affiliate Transactions; Request for Waivers; and Request for Privileged and Confidential Treatment of DTE Electric Company.

Filed Date: 4/13/23.

Accession Number: 20230413-5201.

Comment Date: 5 p.m. ET 4/20/23.

Docket Numbers: ER23-1647-000.

Applicants: Idaho Power Company.

Description: Compliance filing: Attachment H—Compliance Filing to be effective 4/27/2022.

Filed Date: 4/17/23.

Accession Number: 20230417-5001.

Comment Date: 5 p.m. ET 5/8/23.

Docket Numbers: ER23-1648-000.

Applicants: PJM Interconnection, L.L.C.

Description: § 205(d) Rate Filing: Amendment to ISA and ICSA, SA Nos. 6354 and 6355; Queue No. AD1-130 to be effective 6/17/2023.

Filed Date: 4/17/23.

Accession Number: 20230417-5037.

Comment Date: 5 p.m. ET 5/8/23.

Docket Numbers: ER23-1649-000.

Applicants: PJM Interconnection, L.L.C.

Description: § 205(d) Rate Filing: Amendment to WMPA, Service Agreement No. 6030; Queue No. AG1-145 to be effective 6/19/2023.

Filed Date: 4/17/23.

Accession Number: 20230417-5057.

Comment Date: 5 p.m. ET 5/8/23.

Docket Numbers: ER23-1652-000.

Applicants: PJM Interconnection, L.L.C.

Description: § 205(d) Rate Filing: Amendment to ISA, SA No. 6188; Queue Nos. AD2-172/AE2-035 (amend) to be effective 6/17/2023.

Filed Date: 4/17/23.

Accession Number: 20230417-5099.

Comment Date: 5 p.m. ET 5/8/23.

Docket Numbers: ER23-1653-000.

Applicants: Jersey Central Power & Light Company, PJM Interconnection, L.L.C.

Description: § 205(d) Rate Filing: Jersey Central Power & Light Company submits tariff filing per 35.13(a)(2)(iii: JCP&L Request for Order Authorizing Abandoned Plant Incentive to be effective 6/17/2023.

Filed Date: 4/17/23.

Accession Number: 20230417-5106.

Comment Date: 5 p.m. ET 5/8/23.

Docket Numbers: ER23-1654-000.

Applicants: Basin Electric Power Cooperative.

Description: Tariff Amendment: Basin Electric Notice of Cancellation of Service Agreement No. 30 (EDF Trading) to be effective 6/17/2023.

Filed Date: 4/17/23.

Accession Number: 20230417-5110.

Comment Date: 5 p.m. ET 5/8/23.

Docket Numbers: ER23-1655-000.

Applicants: El Paso Electric Company.

Description: Compliance filing: Compliance—Market-Based Rate Tariff to be effective 4/5/2023.

Filed Date: 4/17/23.

Accession Number: 20230417-5137.

Comment Date: 5 p.m. ET 5/8/23,

Take notice that the Commission received the following PURPA 210(m)(3) filings:

Docket Numbers: QM23-4-000.

Applicants: Wabash Valley Power Association, Inc.

Description: Application of Wabash Valley Power Association, Inc. to Terminate Its Mandatory Purchase Obligation under the Public Utility Regulatory Policies Act of 1978.

Filed Date: 4/17/23.

Accession Number: 20230417-5186.

Comment Date: 5 p.m. ET 5/8/23.

Take notice that the Commission received the following electric reliability filings:

Docket Numbers: RD23-2-001; AD21-15-000.

Applicants: North American Electric Reliability Corporation.

Description: North American Electric Reliability Corporation submits Report on the Evaluation of the Physical Security Reliability Standard and Physical Security Attacks to the Bulk-Power System.

Filed Date: 4/14/23.

Accession Number: 20230414-5192.

Comment Date: 5 p.m. ET 5/15/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2023.
Debbie-Anne A. Reese,
Deputy Secretary.

[FR Doc. 2023-08474 Filed 4-20-23; 8:45 am]

BILLING CODE 6717-01-P